DEPARTMENT OF THE INTERIOR

Bureau of Reclamation

[RR01114000, 20XR0680A5, RA.5221203.0019100]

Notice of Intent to Prepare an Environmental Impact Statement and Public Scoping Virtual Meeting Room for the Leavenworth National Fish Hatchery Surface Water Intake Fish Screens and Fish Passage Project, Chelan County, Washington

AGENCY: Bureau of Reclamation, Interior.

ACTION: Notice of intent; request for comments.

SUMMARY: The Bureau of Reclamation (Reclamation) intends to prepare an Environmental Impact Statement (EIS) on the Leavenworth National Fish Hatchery (LNFH) Surface Water Intake Fish Screens and Fish Passage (SWISP) Project. Reclamation is requesting public and agency comment to identify significant issues or other alternatives to be considered in the EIS.

DATES: The public will have the opportunity to participate in the scoping process by providing written scoping comments, providing input through a web-based virtual meeting room from April 24, 2020, to May 26, 2020, and/or participating in a question and answer teleconference on May 18, 2020 from 4 p.m. to 6 p.m. (PDT).

ADDRESSES: Provide written scoping comments, requests to be added to the mailing list, or other special assistance needs to Mr. Jason Sutter, EIS Team Lead, Bureau of Reclamation, Columbia-Pacific Northwest Regional Office, 1150 N. Curtis Road, Boise, ID 83706 or email BOR-SHA-PNRLSWISP@usbr.gov.

FOR FURTHER INFORMATION CONTACT: For requests to be added to the mailing list, or other special assistance needs, please contact Mr. Jason Sutter, at the address or email provided in the ADDRESSES section or by telephone at (208) 378-5390 or facsimile (509) 454-5650. Persons who use a telecommunications device for the deaf may call the Federal Relay Service (FedRelay) at 1-800-877-8339 TTY/ASCII to contact the above individual during normal business hours or to leave a message or question after hours. You will receive a reply during normal business hours. Information on this project, including details for the public question and answer teleconference, may also be found at: https://www.usbr.gov/pn/programs/leavenworth/swisp/index.html.

SUPPLEMENTARY INFORMATION: Reclamation is issuing this notice pursuant to the National Environmental Policy Act of 1969, as amended (NEPA), 42 U.S.C. 4321 et seq.; the Council on Environmental Quality's regulations for implementing NEPA, 43 CFR parts 1500 through 1508; and the Department of the Interior's NEPA regulations, 43 CFR part 46. The virtual meeting will be accessible at https://virtualpublic meeting.com/leavenworth-swisp-eis. Website visitors will be able to view public meeting materials, pose questions, view answers, and submit comments. Please monitor the project website for any changes or updates at https://www.usbr.gov/pn/programs/leavenworth/swisp/index.html.

Background

The LNFH was designed and constructed in the late 1930s as mitigation for the construction of Grand Coulee Dam. The hatchery, which is operated by the U.S. Fish and Wildlife Service (USFWS) and funded by Reclamation and Bonneville Power Administration, produces 1.2 million spring Chinook Salmon smolts annually that are released into Icicle Creek.

The LNFH's primary point of diversion and water delivery system on Icicle Creek is nearly 80 years old and is reaching or exceeding its operational life. Rehabilitation, replacement, and modernization of the LNFH surface water intake and delivery system was evaluated in the 2002 USFWS Icicle Creek Restoration Project Final EIS and the 2019 Icicle Creek Water Resource Management Strategy Final Programmatic EIS prepared by the State of Washington Department of Ecology and Chelan County under the Washington State Environmental Policy Act. Currently, the intake facility does not comply with National Marine Fisheries Service (NMFS) criteria for anadromous salmonids. The 2017 NMFS biological opinion covering LNFH operations requires the LNFH to have a surface water intake and delivery system that complies with NMFS current screening and fish passage criteria for anadromous fish passage facilities in place and operating by May 2023.

In addition to meeting legal requirements, LNFH needs to improve employee safety when operating and maintaining intake and delivery facilities, improve flow control and water conservation capabilities, effectively manage sediment adversely affecting the water delivery system, and increase reliability and longevity of the system. The purpose of the SWISP Project is to minimize take of ESA-listed fish species, provide fish passage that complies with current regulatory criteria, and ensure safe, efficient, and reliable delivery of LNFH's full surface water rights from Icicle Creek.

Reclamation proposes to rehabilitate the LNFH intake and delivery system on Icicle Creek by constructing new headworks and a creek-width roughened channel, and replacing/lining the surface water conveyance pipeline to the hatchery. In addition, the current intake access road would be modified and extended to provide better entry to an expanded intake operations and maintenance area. Construction of the headworks and roughened channel would incorporate the existing low-head diversion dam and intake channel. Self-cleaning, cylindrical fish screens would be installed at the diversion headworks, and a low-flow boulder weir fishway would be integrated into the roughened channel. A new pipeline would be placed in the intake channel to connect the headworks to the conveyance pipeline. The intake channel would be filled to cover the pipeline and create the intake operations and maintenance area. The conveyance pipeline would be replaced on USFWS lands and lined with cure-in-place liner on private parcels. Several manhole access points along the existing conveyance pipeline alignment would be constructed to provide ingress and egress for pipe lining on private lands.

Reclamation is not presently aware of any known or possible Indian Trust Assets, Indian Sacred Sites, or Environmental Justice issues associated with the proposed action, but requests any information relative to this issue be submitted during the scoping period.

Reclamation intends to complete an EIS for this project pursuant to the NEPA. The EIS will analyze the potential environmental effects of the proposed action, a no-action alternative, and a reasonable range of alternatives designed to respond to the purpose and need for the project. The 30-day scoping process and the virtual meetings identified in this notice are intended to inform the public about the project and to request public and agency comment to identify significant issues or alternatives to be addressed in the EIS.

Public Disclosure

Before including your address, phone number, email address, or other personal identifying information in your comment, you should be aware that your entire comment—including your personal identifying information—may be made publicly available at any time. While you may ask us in your comment to withhold your personal identifying information from public review, we cannot guarantee that we will be able to do so.

Lorri J. Gray,
Regional Director, Bureau of Reclamation, Interior Region 9—Columbia-Pacific Northwest.

[FR Doc. 2020-08671 Filed 4-23-20; 8:45 am]

BILLING CODE 4332-90-P